NUCLEAR REGULATORY COMMISSION

Consolidated Guidance About Materials Licenses: Program-Specific Guidance About Special Nuclear Material of Less Than Critical Mass Licenses

AGENCY: Nuclear Regulatory Commission (NRC).

ACTION: Notice of availability.

SUMMARY: The NRC is announcing the availability of final NUREG-1556, Volume 17, “Consolidated Guidance about Materials Licenses: Program-Specific Guidance about Special Nuclear Material of Less Than Critical Mass Licenses,” dated November 2000.

The NRC is using Business Process Redesign techniques to redesign its materials licensing process, as described in NUREG-1539, “Methodology and Findings of the NRC's Materials Licensing process Redesign.” A critical element of the new process is consolidating and updating numerous guidance documents into a NUREG-series of reports. This final NUREG report is the 17th guidance document developed to support an improved materials licensing process.

This guidance is intended for use by applicants, licensees, and the NRC staff, and will also be available to Agreement States. This document combines and updates the guidance found in Regulatory Guide 10.3 “Guide for the preparation of Applications for Special Nuclear Material Licenses of Less Than Critical mass Quantities.” This final report takes a more risk-informed, performance-based approach to licensing quantities of special nuclear material of less than critical mass, and reduces the information (amount and level of detail) needed to support an application to use this material.

A free single copy of final NUREG 1556, Volume 17, may be requested by writing to the US Nuclear Regulatory Commission, ATTN: Mrs. Carrie Brown, Mail Stop TWFN 9-C24, Washington, DC 20555-0001. Alternatively, submit requests through the Internet by addressing electronic mail to cxb@nrc.gov. A copy of this final NUREG 1556 Volume 17, is available for inspection and/or copying for a fee in the NRC Public Document Room, 2120 L Street, NW. (Lower Level), Washington, DC 20555-0001.

FOR FURTHER INFORMATION CONTACT: Mrs. Carrie Brown, TWFN 9-F-24, Division of Industrial and Medical Nuclear Safety, Office of Nuclear Material Safety and Safeguards, U.S. Nuclear Regulatory Commission, Washington, DC 20555, telephone (301) 415-8092.

Electronic Access: Final NUREG-1556, Vol. 17 is available electronically by visiting the NRC's Home Page (http://www.nrc.gov/nrc/nucmat.html)

Dated at Rockville, Maryland, this 21st day of December, 2000.
For the Nuclear Regulatory Commission.
Patricia K. Holahan,
Chief, Rulemaking and Guidance Branch, Division of Industrial and Medical Nuclear Safety, NMSS.

[FR Doc. 01-833 Filed 1-10-01; 8:45 am]

BILLING CODE 7590-01-M